DEPARTMENT OF HOUSING AND URBAN DEVELOPMENT

[Docket No. FR-5415-N-06]

Announcement of Funding Awards for Fiscal Year 2010 Tribal Colleges and Universities Program

AGENCY: Office of the Assistant Secretary for Policy Development and Research, HUD.

ACTION: Announcement of funding awards.

SUMMARY: In accordance with section 102(a)(4)(C) of the Department of Housing and Urban Development (HUD) Reform Act of 1989, this document notifies the public of funding awards for Fiscal Year (FY) 2010 Tribal Colleges and Universities Program (TCUP). The purpose of this document is to announce the names and addresses of the award winners and the amount of the awards, which are to be used to enable Tribal Colleges and Universities (TCU) to build, expand, renovate, and equip their own facilities, and expand the role of the TCUs into the community through the provision of needed services such as health programs, job training, and economic development activities.

FOR FURTHER INFORMATION CONTACT: Susan Brunson, Office of University Partnerships, Department of Housing and Urban Development, Room 8226, 451 Seventh Street, SW., Washington, DC 20410, Telephone (202) 402-3852. To provide service for persons who are hearing-or-speech-impaired, this number may be reached via TTY by dialing the Federal Information Relay Service on 800-877-8339 or 202-708-1455 (Telephone number, other than “800” TTY numbers are not toll free).

SUPPLEMENTARY INFORMATION: The Tribal Colleges and Universities Program was approved by Congress under the Consolidated Appropriations Act, 2010 (Pub. L. 111-117 approved December 16, 2009) and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The Tribal Colleges and Universities Program assists tribal colleges and universities to build, expand, renovate, and equip their own facilities, and expand the role of the TCUs into the community through the provision of needed services such as health programs, job training, and economic development activities.

The Catalog of Federal Domestic Assistance number for this program is 14.519.

On July 16, 2010 a Notice of Funding Availability (NOFA) was posted on Grants.gov announcing the availability of $6.3 million in Fiscal Year (FY) 2010 funding for the Tribal Colleges and Universities Program. The Department reviewed, evaluated and scored the applications received based on the criteria in the NOFA. As a result, HUD funded eight applications.

The Department reviewed, evaluated, and scored the applications received based on the criteria in the NOFA. As a result, HUD has funded the applications below, in accordance with section 102(a)(4)(C) of the Department of Housing and Urban Development Reform Act of 1989 (103 Stat. 1987, 42 U.S.C. 3545). More information about the winners can be found at http://www.oup.org.

List of Awardees for Grant Assistance Under the FY 2010 Tribal Colleges and Universities Program Funding Competition, by Institution, Address, and Grant Amount

Region V

1. White Earth Tribal College, Wannetta Bennett, White Earth Tribal College, 124 South First Street, Mahnomen, MN 56557. Grant: $800,000.

Region VIII

2. Fort Peck Community College, Craig Smith, Fort Peck Community College, 605 Indian Avenue, Poplar, MT 59201. Grant: $800,000.

3. Sitting Bull College, Koreen Ressler, Sitting Bull College, 9299 Highway 24, Fort Yates, ND 58538. Grant: $800,000.

4. Salish Kootenai College, Lon Whitaker, Salish Kootenai, 58138 U.S. Highway 93, Pablo, MT 59855. Grant: $800,000.

5. Stone Child College, Melody Henry, Stone Child College, 8294 Upper Box Elder Road, Box Elder, MT 59521. Grant: $800,000.

6. Fort Berthold Community College, Keith Smith, Fort Berthold Community College, 220 8th Ave., P.O. Box 490, New Town, ND 58763. Grant: $800,000.

Region X

7. Northwest Indian College, Dave Orerio, Northwest Indian College, 2522 Kwina Road, Bellingham, WA 98226. Grant: $800,000.

Region IX

8. Diné College, Cliff John, Diné College, One Circle Drive, Route 12, Tsaile, AZ 86556. Grant: $700,000.

Dated: September 17, 2010.
Raphael W. Bostic,
Assistant Secretary for Policy Development and Research.

[FR Doc. 2010-24615 Filed 9-30-10; 8:45 am]

BILLING CODE 4210-67-P